DEPARTMENT OF THE INTERIOR

Office of the Secretary

[133D5670LC DLCAP0000.000000 DS10100000 DX.10129; OMB Control Number 1093-0007]

Proposed Renewal of Information Collection; Tribal Expression of Interest to the Land Buy-Back Program for Tribal Nations

AGENCY: Office of the Secretary, Land Buy-Back Program for Tribal Nations, Interior.

ACTION: Notice and request for comments.

SUMMARY: In compliance with the Paperwork Reduction Act of 1995, the Land Buy-Back Program for Tribal Nations (Buy-Back Program), Office of the Secretary, Department of the Interior announces the proposed extension of a public information collection and seeks public comments on the provisions thereof.

DATES: Consideration will be given to all comments received by February 29, 2016

ADDRESSES: Send your written comments to Michael Estes, Land Buy-Back Program for Tribal Nations, U.S. Department of the Interior, 1849 C Street NW., MS 5552-MIB, Washington, DC 20240, fax 202-208-3009, or by electronic mail to Michael_Estes@ios.doi.gov. Please mention that your comments concern the Tribal of Expression of Interest to the Land Buy-Back Program for Tribal Nations, OMB Control Number 1093-0007.

FOR FURTHER INFORMATION CONTACT: To request a copy of the information collection request, any explanatory information and related forms, see the contact information provided in the ADDRESSES section above.

SUPPLEMENTARY INFORMATION:

I. Abstract

This notice is for renewal of information collection.

The Office of Management and Budget (“OMB”) regulations at 5 CFR part 1320, which implement the Paperwork Reduction Act of 1995, 44 U.S.C. 3501 et seq., require that interested members of the public and affected agencies have an opportunity to comment on information collection and recordkeeping activities (see 5 CFR 1320.8(d)).

The Secretary of the Interior established the Land Buy-Back Program for Tribal Nations (“the Program”) to implement the land consolidation provisions of the Cobell Settlement Agreement (“the Settlement”). The Settlement provided for a $1.9 billion Trust Land Consolidation Fund to consolidate fractional land interests across Indian Country.

The Department of the Interior works cooperatively with tribal leaders and individual landowners to reduce the number of fractional interests through voluntary land sales. The Program allows interested individual owners to receive payments for voluntarily selling their land. All lands sold will immediately be held in trust for the tribe with jurisdiction. Tribal leadership, participation, and facilitation are crucial to the success of the Program.

The Program is carrying out its work in accordance with the Claims Resolution Act of 2010 (Pub. L. 111-291, § 101). The Act requires that “[t]he Secretary shall consult with Indian tribes to identify fractional interests within the respective jurisdictions of the Indian tribes for purchase in a manner that is consistent with the priorities of the Secretary.” Moreover, the obligation to engage in meaningful consultations with Federally-recognized tribes is rooted in the United States Constitution and Federal treaties, statutes, executive orders and policies. Federal agencies are required to consult on actions that will have substantial, direct effect or implications for tribal nations, including regulations, rulemakings, policy, guidance, legislative proposals, grant formula changes, and operational activities.

There are about 245,000 owners of nearly three million fractional interests across Indian Country who are eligible to participate in the Program. Informed by early planning activities, the Program identified 42 locations where land consolidation activities—such as planning, outreach, mapping, mineral evaluations, appraisals or acquisitions—have either already occurred or are expected to take place through the middle of 2017. These locations represented 83 percent of all outstanding fractional interests across Indian Country.

The Program has launched a two-part Planning Initiative to help determine its next implementation schedule for 2017 and beyond. Eligible tribal governments not already scheduled for implementation are invited to formally indicate their interest in participating in the Program. More information, including the deadline for tribal expressions of interest, is available to tribal leaders at: https://www.doi.gov/buybackprogram/tribes.

In light of the Program's duty to consult with tribes, we are conducting this information collection request to obtain information from the remaining eligible tribal governments regarding their interest in implementing the Program at their locations and their readiness to do so. The Program will evaluate the expressions of interest provided by tribal governments, among other factors, as it develops its next implementation schedule.

II. Data

(1) Title: Tribal Expression of Interest to the Land Buy-Back Program for Tribal Nations

OMB Control Number: 1093-0007.

Current Expiration Date: April 30, 2016.

Type of Review: Information Collection Renewal.

Affected Entities: Tribal Governments

Estimated annual number of respondents: 50

Frequency of responses: Once per interested tribe.

(2) Annual reporting and recordkeeping burden:

Total annual reporting per response: 74 hours.

Total number of estimated responses: 50.

Total annual reporting: 3,700 hours.

(3) Description of the need and use of the information: The information that we seek to collect will be used by the Land Buy-Back Program as one consideration among others to evaluate and determine our next implementation schedule for the consolidation of fractionated lands. The Program will consider implementation at locations associated with tribes that express interest in the Program.

III. Request for Comments

The Department invites comments on:

(a) Whether the collection of information is necessary for the proper performance of the functions of the agency, including whether the information will have practical utility;

(b) The accuracy of the agency's estimate of the burden of the collection of information and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train personnel and to be able to respond to a collection of information, to search data sources, and to complete and review the collection of information; and to transmit or otherwise disclose the information.

It is our policy to make all comments available to the public for review. Before including Personally Identifiable Information (“PII”), such as your address, phone number, email address, or other personal information in your comment(s), you should be aware that your entire comment (including PII) may be made available to the public at any time. While you may ask us in your comment to withhold PII from public view, we cannot guarantee that we will be able to do so. If you wish to view any comments received, you may do so by scheduling an appointment using the contact information provided in the ADDRESSES section of this notice. A valid picture identification is required for entry into the Department of the Interior.

Comments submitted in response to this notice will be summarized and/or included in the request for OMB approval of this information collection renewal; they also will become a matter of public record.

An agency may not conduct or sponsor, and a person is not required to respond to, a collection of information unless it displays a currently valid OMB control number.

Dated: December 22, 2015.
John H. McClanahan,
Program Manager, Land Buy-Back Program for Tribal Nations.

[FR Doc. 2015-32669 Filed 12-28-15; 8:45 am]

BILLING CODE 4334-63-P